NUCLEAR REGULATORY COMMISSION

Office of Nuclear Material Safety and Safeguards Spent Fuel Project Office; Notice of Issuance and Availability of NUREG-1617 Standard Review Plan for Transportation Packages for Spent Nuclear Fuel

The United States Nuclear Regulatory Commission (NRC) has issued the final report NUREG-1617, “Standard Review Plan for Transportation Packages for Spent Nuclear Fuel.”

The Standard Review Plan for Transportation Packages for Spent Nuclear Fuel provides guidance to the NRC staff for the review and approval of applications for packages used to transport spent nuclear fuel under Title 10 of the Code of Federal Regulations, Chapter 1, Part 71 (10 CFR Part 71).

NUREG-1617 is intended for use by the NRC staff. Its objectives are to (1) summarize 10 CFR Part 71 requirements for package approval, (2) describe the procedures by which the NRC staff determines that these requirements have been satisfied, and (3) document the practices developed by the staff in reviews of package applications.

NUREG-1617 is available for inspection, and copying for a fee, at the NRC Public Document Room, 2120 L Street NW (Lower Level), Washington, DC 20555-0001. Copies of NUREG-1617 may be purchased from the Superintendent of Documents, U.S. Government Printing Office, P.O. Box 37082, Washington, DC 20402-9328, telephone no. 1-202-512-1800, or the National Technical Information Service, 5285 Port Royal Road, Springfield, VA 22161, telephone no. 1-800-553-6847. This document is also available at the NRC web site, http://www.nrc.gov. See the link under “Technical Reports in the NUREG Series” on the “Reference Library Page.”

Dated at Rockville, Maryland, this 31st day of March, 2000.
For the Nuclear Regulatory Commission.
M. Wayne Hodges,
Deputy Director, Technical Review Directorate, Spent Fuel Project Office, Office of Nuclear Material Safety and Safeguards.

[FR Doc. 00-9624 Filed 4-17-00; 8:45 am]

BILLING CODE 7590-01-P